OFFICE OF THE UNITED STATES TRADE REPRESENTATIVE

Procedures for Further Consideration of Requests (Anniversary) for Exclusion of Particular Products From Actions With Regard to Certain Steel Products Under Section 203 of the Trade Act of 1974, as Established in Presidential Proclamation 7529 of March 5, 2002

AGENCY: Office of the United States Trade Representative.

ACTION: Notice.

SUMMARY: In a notice published on October 26, 2001 (66 FR 54321) (Notice), the Trade Policy Staff Committee (TPSC) established procedures for interested persons to request the exclusion of particular products from any action the President might take under section 203 of the Trade Act of 1974, as amended, (19 U.S.C. 2253) (Trade Act) with regard to certain steel products. Presidential Proclamation 7529 of March 5, 2002, established such actions with regard to certain steel products (safeguard measures), but excluded some of the particular products identified in requests for exclusion made in response to the Notice. See 67 FR 10553 (March 7, 2002). Proclamation 7529 authorized the United States Trade Representative (USTR) in March of each year in which any of the safeguard measure remains in effect to further exclude particular products from the pertinent safeguard measure established by the proclamation. The USTR is modifying procedures established on April 18, 2002 (67 FR 19307) for further consideration of such exclusion requests.

DATES: The USTR and the Department of Commerce will hold a public information session to review the anniversary exclusion filing procedures on Thursday, November 21, 2002, at 4 p.m. in room 3407 of the Department of Commerce, 14th and Constitution Avenue, NW., Washington, DC. Information will available on the USTR website at www.ustr.gov/sectors/industry/steel.shtml indicating how interested persons may participate in this public information session by teleconference. Persons submitting requests for the exclusion of certain steel products from the safeguard measures must file completed questionnaires by December 3, 2002.

FOR FURTHER INFORMATION CONTACT: Please send inquiries regarding the exclusion process by e-mail simultaneously to: exclusion_support@ita.doc.gov and FR001@ustr.gov. You may also contact the Office of Industry, Office of the United States Trade Representative, 600 17th Street, NW., Room 501, Washington DC, 20508. Telephone (202) 395-5656.

SUPPLEMENTARY INFORMATION: On March 5, 2002, pursuant to section 203 of the Trade Act of 1974, as amended (the “Trade Act”) (19 U.S.C. 2253), the President issued Proclamation 7529 (67 FR 10553), which imposed tariffs and a tariff-rate quota on (a) certain flat steel, consisting of: Slabs, plate, hot-rolled steel, cold-rolled steel, and coated steel; (b) hot-rolled bar; (c) cold-finished bar; (d) rebar; (e) certain tubular products; (f) carbon and alloy fittings; (g) stainless steel bar; (h) stainless steel rod; (i) tin mill products; and (j) stainless steel wire, as provided for in subheadings 9903.72.30 through 9903.74.24 of the Harmonized Tariff Schedule of the United States (“HTS”) (“safeguard measures”) for a period of three years plus 1 day.

Within 120 days after the date of that proclamation, the USTR was authorized to further consider any request for exclusion from the section 201 measures of a particular product submitted in accordance with the procedures set out in 66 FR 54321, 54322-54323 (October 26, 2001) and, upon publication in the Federal Register of a notice of his finding that a particular product should be excluded, to modify the HTS provisions created by the annex to the proclamation to exclude such particular product from the pertinent safeguard measure established by the proclamation.

Proclamation 7529 also delegated to the USTR the authority, in March of each year in which any safeguard measure established by this proclamation remains in effect, upon publication in the Federal Register of a notice of his finding that a particular product should be excluded, to modify the HTS provisions created by the annex to this proclamation to exclude such particular product from the pertinent safeguard measure established by this proclamation. This Federal Register notice provides notice of the procedures for the consideration of these anniversary exclusion requests.

To facilitate the consideration of new exclusion requests, USTR requests persons interested in obtaining an exclusion from the safeguard measures of a particular product to send an e-mail to exclusion_support@ita.doc.gov to request an identifying “A” number. The “Subject” line of the e-mail must give the name of the requesting party and the words “A-number Request” as in the following example: XYZSteelCo—A-number Request. Each submitting party will be assigned only one identifying A number, regardless of the number of total exclusion requests a submitting party may ultimately file. That party's individual product requests will then be differentiated using the “decimal point” numbers. Further instructions about decimal numbers will be provided to the submitting party in the e-mail which supplies the submitting party with its A-number.

USTR, in conjunction with the U.S. Department of Commerce, has developed a series of questions designed to elicit information that clearly identifies the product under consideration, and provides detailed information on the requester's situation. These questions, presented in the form of a requester questionnaire, are available on the USTR website at http://www.ustr.gov/sectors/industry/steel.shtml. The questionnaire contains detailed filing instructions. Interested parties must submit a complete questionnaire by December 3, 2002.

In addition to the instructions contained in the questionnaire, USTR has developed guidelines in response to frequently asked questions to assist a requester in preparing a response to the questionnaire. The Guidelines further elaborate upon the questionnaire and provide sample responses to selected questions within the questionnaire. The Guidelines will be available on the USTR website at http://www.ustr.gov/sectors/industry/steel.shtml.

USTR and the Commerce Department will review each exclusion request for the minimum level of sufficiency necessary to initiate each exclusion request. In the case of a deficient exclusion request, USTR or Commerce will transmit by e-mail a notice to the submitting party that briefly summarizes the nature of the deficiency and/or requests supplemental information. By providing a deficiency notice, USTR and the Commerce Department will otherwise make no comment on the merits of an exclusion request. Exclusion requesters will have 10 days from the date of transmission of the deficiency notice to remedy and file a correction or submit requested supplemental information to its exclusion request.

Short descriptions of the particular products covered by complete questionnaire responses will be posted in groups on the USTR website, and the requester questionnaires will be made available to the public in the Commerce Department Central Records Unit. The timing and size of the posting of such groups will be determined and announced at a future date by USTR and will depend on the volume and nature of exclusion requests received by USTR.

USTR, in conjunction with the Commerce Department, has developed a series of questions designed to substantiate any objections. These questions, presented in the form of an objector questionnaire, will be available on the USTR website at http://www.ustr.gov/sectors/industry/steel.shtml. The filing deadlines of such objector questionnaires will be determined and announced at a future date in accord with the above-referenced public posting process.

If a complete response to the requester questionnaire with regard to a particular product has not been received by December 3, 2002, USTR may disregard the exclusion request for that product. If a complete response to the objector questionnaire with regard to a particular product has not been received by the date that will be established by USTR, USTR will assume that the domestic industry does not object to the exclusion of that particular product.

USTR and the Commerce Department will make time available to meet with interested persons in the latter half of January 2003 to review the submissions related to exclusion requests. USTR will publish instructions on the USTR website in December for requesting meetings with the exclusion analysis team, and will notify the parties of the meeting schedule in the first half of January 2003. If the number of meetings requested exceeds the time available for such meetings, priority will be given to those meetings that discuss exclusion requests that, in the opinion of USTR and Commerce, require further inquiry.

Each exclusion request will be evaluated on a case-by-case basis. USTR will grant only those exclusions that do not undermine the objectives of the safeguard measures. In analyzing the requests, USTR will consider whether the product is currently being produced in the United States, whether substitution of the product is possible, whether qualification requirements affect the requester's ability to use domestic products, current inventory levels, whether the requested product is under development by a U.S. producer who will imminently be able to produce it in marketable quantities, and any other relevant factors.

Submission of Requests for Exclusion and Opposition to Requests for Exclusion

Parties who wish to place an exclusion request on the record will be required to submit paper copies of each questionnaire response to the Department of Commerce Central Records Unit (B099) via Room 1870. Four paper copies of a public version of an exclusion request must be filed. Parties who wish to file business proprietary versions must submit four paper copies of the business proprietary version and two paper copies of the public version. In addition to paper copies, interested parties must also file an electronic version via e-mail in a WordPerfect or Microsoft Word format to exclusion_support@ita.doc.gov and FR001@ustr.gov. Detailed filing instructions are contained in both the requester and objector questionnaires located in the aforementioned USTR website address.

Any long description of the product subject to an exclusion request must include only publicly available information, in text form (no tables or graphs), with all units of measurement converted to metric equivalents. The description must be sufficient to differentiate the product from other products, and to allow for enforcement of the exclusion, if granted, by the U.S. Customs Service.

We strongly discourage the submission of business proprietary information. Any questionnaire response that contains business proprietary information must be accompanied by two paper copies of a public summary that do not contain business proprietary information and four paper copies that do contain business proprietary information.

Paperwork Reduction Act

This notice contains a collection of information provision subject to the Paperwork Reduction Act (PRA) that the Office of Management and Budget (OMB) has approved. Notwithstanding any other provision of law, no person is required to respond to nor shall a person be subject to a penalty for failure to comply with a collection of information subject to the requirements of the PRA unless that collection of information displays a currently valid OMB number. This notice's collection of information burden is only for those persons who wish voluntarily to request the exclusion of a product from the safeguard measures. It is expected that the collection of information burden will be no more than 20 hours. This collection of information contains no annual reporting or record keeping burden. OMB approved this collection of information under OMB control number 0350-0011. Please send comments regarding the collection of information burden or any other aspect of the information collection to USTR at the address above.

Robert B. Zoellick,
United States Trade Representative.

[FR Doc. 02-29292 Filed 11-18-02; 8:45 am]

BILLING CODE 3190-01-P